DEPARTMENT OF TRANSPORTATION

[Docket No. DOT-OST-2024-0021]

Agency Requests for Approval of a New Information Collection: The Department of Transportation Title VI Program

AGENCY: Office of the Secretary (OST), Department of Transportation.

ACTION: Notice and request for comments.

SUMMARY: The Department of Transportation (DOT or Department) invites public comments about our intention to request the Office of Management and Budget's (OMB) approval for an information collection for the Department's activities conducted pursuant to Title VI of the Civil Rights Act of 1964. We are required to publish this notice in the Federal Register by the Paperwork Reduction Act of 1995.

DATES: Written comments should be submitted by November 29, 2024.

ADDRESSES: You may submit comments identified by Docket No. DOT-OST-2024-0021 through one of the following methods:

• Federal eRulemaking Portal: http://www.regulations.gov. Follow the online instructions for submitting comments.

• Mail or Hand Delivery: Docket Management Facility, U.S. Department of Transportation, 1200 New Jersey Avenue SE, West Building, Room W12-140, Washington, DC 20590, between 9 a.m. and 5 p.m., Monday through Friday, except on Federal holidays. To ensure that someone is present to assist you, please call prior to visiting.

FOR FURTHER INFORMATION CONTACT: Chris Cialeo, Office of the General Counsel, Office of the Secretary, U.S. Department of Transportation, 1200 New Jersey Avenue SE, Washington, DC 20590, (202) 366-8789 or christopher.cialeo@dot.gov.

SUPPLEMENTARY INFORMATION: Title VI states that “[n]o person in the United States shall, on the grounds of race, color, or national origin, be excluded from participation in, be denied the benefits of, or be subjected to discrimination under any program or activity receiving Federal financial assistance.” 42. U.S.C. 2000d.

To achieve this purpose, each Federal department and agency which provides financial assistance for any program or activity is authorized and directed by the Department of Justice (DOJ) to effectuate provisions of Title VI for each program or activity by issuing generally applicable regulations or requirements. The Department of Transportation (DOT) has issued its regulations implementing this DOJ mandate at 49 CFR part 21.

Pursuant to its Title VI regulations, DOT is responsible for ensuring that DOT-assisted programs and activities are carried out in a manner consistent with Title VI. The employment practices of a grant applicant, recipient, or sub-recipient are also covered under Title VI if the primary purpose of the DOT-supported program is to provide employment, or if those employment practices would result in discrimination against beneficiaries of DOT-assisted services and benefits. All project sponsors receiving financial assistance pursuant to a DOT-funded project shall not discriminate in the provision of services because of race, color, or national origin. This information collection will cover all Title VI information collections undertaken by DOT and its operating administrations (OAs) and would eliminate the need for different DOT OAs to submit individual Title VI information collection requests to OMB. Collection of Title VI information includes Title VI certifications and assurances, pre-award assessments, Title VI program plans, community participation plans, and compliance reviews. DOT's Title VI implementing regulations and the Department of Justice (DOJ) regulation Coordination of Non-discrimination in Federally Assisted Programs provide for the collection of data and information from recipients (see 49 CFR 21.7(a), 21.9; 28 CFR 42.406, 42.407(a)).

We have characterized this as a new collection because it is the first time that the Department-wide clearance has been sought for the Department's Title VI information collections, though Title VI information collections have been sought in the past by different OAs and for different grant programs. Upon OMB approval of this Title VI collection, DOT plans to terminate any duplicative OA collections that were previously approved separately. In addition, pursuant to the Department's current Title VI Order (DOT Order 1000.12C), DOT will be collecting information pursuant to its Title VI-related activities that was not collected under the preceding Title VI Order. Specifically, new information will include community participation plans and pre-award assessments, in addition to the Title VI plans and compliance reviews collected under the preceding Title VI Order that will continue to be collected under DOT Order 1000.12C. Because OAs are authorized by the Title VI Order to tailor their financial assistance application guidelines, the actual information collected may vary between OAs. A copy of the Department's proposed Title VI pre-award assessment template form is available for public comment in the docket.

To help commenters provide information that will better allow the Department to include the appropriate paperwork burden within this collection, we offer the following clarifications. A “collection of information,” is defined as “the obtaining, causing to be obtained, soliciting, or requiring the disclosure to an agency, third parties or the public of information by or for an agency by means of identical questions posed to, or identical reporting, recordkeeping, or disclosure requirements imposed on, ten or more persons.” 5 CFR 1320.3(c)(1). The activities that constitute the “burden” associated with a collection are defined in 5 CFR 1320.3(b)(1) as “the total time, effort, or financial resources expended by persons to generate, maintain, retain, or disclose or provide information to or for a Federal agency.” Importantly, this burden is not necessarily the same as the entire regulatory burden for a program or an aspect of a program.

Public Comments Invited: You are asked to comment on any aspect of this information collection, including (a) Whether the proposed collection of information is necessary for the Department's performance; (b) the accuracy of the estimated burden; (c) ways for the Department to enhance the quality, utility, and clarity of the information collection; and (d) ways that the burden could be minimized without reducing the quality of the collected information. The agency will summarize and/or include your comments in the request for OMB's clearance of this information collection.

Respondents: Airports, cities, counties, ports, Metropolitan Planning Organizations, railroads, shipyards, States, transit agencies, and universities.

Estimated Annual Burden per Respondent: Burden hours are provided by OA based on the specific Title VI compliance activity. The total number listed is the number that would be required to complete all five identified activities (Title VI Assurances, Pre-Award Assessments, Title VI Plans, Community Participation Plans, and Compliance Reviews). Because certain activities, such as Compliance Reviews and the Pre-Award Assessment Form, will not apply to every recipient every year, the actual burden per respondent is likely to be lower.

Federal Aviation Administration: 43 hours (1 hour for Title VI Assurances, 2 hours for Pre-Award Assessments, 20 hours for Title VI plans, 10 hours for Community Participation Plans, 10 hours for Compliance Reviews)

Federal Highway Administration: 138 hours (1 hour for Title VI Assurances, 5 hours for Pre-Award Assessments, 60 hours for Title VI plans, 40 hours for Community Participation Plans, 32 hours for Compliance Reviews)

Federal Motor Carrier Safety Administration: 13 hours (1 hour for Title VI Assurances, 3 hours for Pre-Award Assessments, 3 hours for Title VI plans, 3 hours for Community Participation Plans, 3 hours for Compliance Reviews)

Federal Railroad Administration: 209 hours (1 hour for Title VI Assurances, 8 hours for Pre-Award Assessments, 80 hours for Title VI plans, 80 hours for Community Participation Plans, 40 hours for Compliance Reviews)

Federal Transit Administration: 37 hours (1 hour for Title VI Assurances, 3 hours for Pre-Award Assessments, 16 hours for Title VI plans, 2 hours for Community Participation Plans, 15 hours for Compliance Reviews)

Maritime Administration: 163 hours (1 hour for Title VI Assurances, 22 hours for Pre-Award Assessments, 20 hours for Title VI plans, 40 hours for Community Participation Plans, 80 hours for Compliance Reviews)

National Highway Traffic Safety Administration: 141 hours (1 hour for Title VI Assurances, 40 hours for Pre-Award Assessments, 40 hours for Title VI plans, 60 hours for Community Participation Plans)

Office of the Secretary: 49 hours (1 hour for Title VI Assurances, 8 hours for Pre-Award Assessments, 25 hours for Title VI plans, 15 hours for Community Participation Plans)

Pipeline and Hazardous Materials Safety Administration: 16 hours (1 hour for Title VI Assurances, 7 hours for Pre-Award Assessments, 6 hours for Title VI plans, 2 hours for Community Participation Plans)

Estimated Total Annual Burden: 133,422 hours, Department-wide. A breakdown of the total burden by OA is included below.

Federal Aviation Administration: 59,800 hours

Federal Highway Administration: 7,314 hours

Federal Motor Carrier Safety Administration: 1,672 hours

Federal Railroad Administration: 6,360 hours

Federal Transit Administration: 10,508 hours

Maritime Administration: 15,948 hours

National Highway Traffic Safety Administration: 10,716 hours

Office of the Secretary: 2,940 hours

Pipeline and Hazardous Materials Safety Administration: 4,400 hours

Authority: The Paperwork Reduction Act of 1995; 44 U.S.C. chapter 35, as amended; and 49 CFR 1.49.

Issued in Washington, DC, on September 25, 2024.
Peter Constantine,
Assistant General Counsel for General Law.

[FR Doc. 2024-22302 Filed 9-27-24; 8:45 am]

BILLING CODE 4910-9X-P